DEPARTMENT OF THE TREASURY

Office of Foreign Assets Control

31 CFR Parts 535, 536, 537, 538, 539, 540, 541, 542, 560, 588, 594, and 595

Iranian Assets Control Regulations, Narcotics Trafficking Sanctions Regulations, Burmese Sanctions Regulations, Sudanese Sanctions Regulations, Weapons of Mass Destruction Trade Control Regulations, Highly Enriched Uranium (HEU) Agreement Assets Control Regulations, Zimbabwe Sanctions Regulations, Syrian Sanctions Regulations, Iranian Transactions Regulations, Western Balkans Stabilization Regulations, Global Terrorism Sanctions Regulations, Terrorism Sanctions Regulations

AGENCY: Office of Foreign Assets Control, Treasury.

ACTION: Final rule.

SUMMARY: The Treasury Department's Office of Foreign Assets Control (OFAC) is revising its regulations to reflect amendments to the International Emergency Economic Powers Act (IEEPA) made by the Combating Terrorism Financing Act of 2005 (the “Act”).

DATES: Effective May 22, 2006.

FOR FURTHER INFORMATION CONTACT: Assistant Director, Compliance, Outreach & Implementation, tel.: 202/622-2490, Assistant Director, Policy, tel.: 202/622-4855, Office of Foreign Assets Control, or Chief Counsel (Foreign Assets Control), tel.: 202/622-2410, Office of the General Counsel, Department of the Treasury (not toll free numbers).

SUPPLEMENTARY INFORMATION:

Electronic and Facsimile Availability

This document and additional information concerning OFAC are available from OFAC's Web site (http://www.treas.gov/ofac) or via facsimile through a 24-hour fax-on demand service, tel.: (202) 622-0077.

Background

On March 9, 2006, the President signed the Act into law as Public Law 109-177. Section 402 of the Act amended section 206 of IEEPA (50 U.S.C. 1705) by raising the maximum civil penalty for a violation, or attempted violation, of any license, order, or regulation issued under IEEPA to $50,000. The Act also increased the maximum term of imprisonment for a willful violation of any such license, order, or regulation to 20 years.

Accordingly, OFAC is amending the current IEEPA-based sanctions programs regulations to reflect the revised penalties prescribed by the Act.

Executive Order 12866, Administrative Procedure Act, Regulatory Flexibility Act, and Paperwork Reduction Act

Because the regulations at issue involve a foreign affairs function, the provisions of Executive Order 12866 and the Administrative Procedure Act (5 U.S.C. 553) requiring notice of proposed rulemaking, opportunity for public participation, and delay in effective date are inapplicable. In addition, OFAC finds that, because the rule merely amends the penalties provisions of certain sanctions regulations to conform with the statutory changes provided in the Combating Terrorism Financing Act of 2005, good cause exists under 5 U.S.C. 553(b)(B) to waive the notice and public participation procedures, as well as under 5 U.S.C. 553(d)(3) to waive the delay in effective date. Because no notice of proposed rulemaking is required for this rule, the Regulatory Flexibility Act (5 U.S.C. 601-612) does not apply.

The Paperwork Reduction Act does not apply because this rule does not impose information collection requirements that would require the approval of the Office of Management and Budget under 44 U.S.C. 3501 et seq.

List of Subjects

31 CFR Part 535

Administrative practice and procedure, Banks, Banking, Currency, Foreign claims, Foreign investments in United States, Iran, Penalties, Reporting and recordkeeping requirements, Securities.

31 CFR Part 536

Administrative practice and procedure, Banks, Banking, Drug traffic control, Penalties, Reporting and recordkeeping requirements.

31 CFR Part 537

Administrative practice and procedure, Banks, Banking, Burma, Currency, Foreign investments in United States, Foreign trade, Penalties, Reporting and recordkeeping requirements, Securities.

31 CFR Part 538

Administrative practice and procedure, Banks, Banking, Currency, Foreign investments in United States, Foreign trade, Penalties, Reporting and recordkeeping requirements, Securities, Sudan.

31 CFR Part 539

Administrative practice and procedure, Arms and munitions, Imports, Penalties, Reporting and recordkeeping requirements.

31 CFR Part 540

Administrative practice and procedure, Nuclear materials, Penalties, Reporting and recordkeeping requirements, Russian Federation, Uranium.

31 CFR Part 541

Administrative practice and procedure, Banks, Banking, Blocking of assets, Penalties, Reporting and recordkeeping requirements, Securities, Services, Zimbabwe.

31 CFR Part 542

Administrative practice and procedure, Banks, Banking, Blocking of assets, Credit, Penalties, Reporting and recordkeeping requirements, Securities, Services, Syria.

31 CFR Part 560

Administrative practice and procedure, Exports, Humanitarian aid, Imports, Iran, Penalties, Reporting and recordkeeping requirements.

31 CFR Part 588

Administrative practice and procedure, Banks, Banking, Penalties, Reporting and recordkeeping requirements, Securities, Western Balkans.

31 CFR Part 594

Administrative practice and procedure, Banks, Banking, Penalties, Reporting and recordkeeping requirements, Terrorism.

31 CFR Part 595

Administrative practice and procedure, Banks, Banking, Currency, Foreign investments in United States, Penalties, Reporting and recordkeeping requirements, Securities, Terrorism.

For the reasons set forth in the preamble, 31 CFR chapter V is amended by amending the penalty provisions in 31 CFR parts 535, 536, 537, 538, 539, 540, 541, 542, 560, 588, 594, and 595.

PART 535—IRANIAN ASSETS CONTROL REGULATIONS

1. The authority citation for part 535 is revised to read as follows:

Authority: 18 U.S.C. 2332d; 31 U.S.C. 321(b); 50 U.S.C. 1701-1706; Pub. L. 101-410, 104 Stat. 890 (28 U.S.C. 2461 note); E.O. 12170, 44 FR 65729; 3 CFR, 1979 Comp., p. 457; E.O. 12205, 45 FR 24099; 3 CFR, 1980 Comp., p. 248; E.O. 12211, 45 FR 26685; 3 CFR, 1980 Comp., p. 253; E.O. 12276, 46 FR 7913; 3 CFR 1981 Comp., p. 104; E.O. 12279, 46 FR 7919; 3 CFR, 1981 Comp., p. 109; E.O. 12280, 46 FR 7921; 3 CFR, 1981 Comp., p. 110; E.O. 12281, 46 FR 7923; 3 CFR, 1981 Comp., p. 110; E.O. 12282, 46 FR 7925; 3 CFR, 1981 Comp., p. 113; E.O. 12283, 46 FR 7927; 3 CFR, 1981 Comp., p. 114; and E.O. 12294, 46 FR 14111; 3 CFR, 1981 Comp., p. 139; Pub. L. 109-177, 120 Stat. 192.

Subpart G—Penalties

§ 535.701 [Amended]

2. Amend § 535.701 in paragraph (a)(1) by removing “$11,000” and adding in its place “$50,000”, and in paragraph (a)(2) by removing “ten years” and adding in its place “twenty years”.

PART 536—NARCOTICS TRAFFICKING SANCTIONS REGULATIONS

1. The authority citation for part 536 is revised to read as follows:

Authority: 3 U.S.C. 301; 31 U.S.C. 321(b); 50 U.S.C. 1601-1641, 1701-1706; Pub. L. 101-410, 104 Stat. 890 (28 U.S.C. 2461 note); E.O. 12978, 60 FR 54579; 3 CFR, 1995 Comp., p. 415; E.O. 13224, 66 FR 49079; 3 CFR, 2001 Comp., p. 786; E.O. 13286, 68 FR 10619, March 5, 2003; Pub. L. 109-177, 120 Stat. 192.

Subpart G—Penalties

§ 536.701 [Amended]

2. Amend § 536.701 in paragraph (a)(1) by removing “$11,000” and adding in its place “$50,000”, and in paragraph (a)(2) by removing “ten years” and adding in its place “twenty years”.

PART 537—BURMESE SANCTIONS REGULATIONS

1. The authority citation for part 537 is revised to read as follows:

Authority: 3 U.S.C. 301; 31 U.S.C. 321(b); 50 U.S.C 1601-1651, 1701-1706; Sec. 570, Pub. L. 104-208, 110 Stat. 3009; Pub. L. 108-61, 117 Stat. 864; E.O. 13047, 62 FR 28301; 3 CFR 1997 Comp., p. 202; E.O. 13310, 68 FR 44853; 3 CFR 2004 Comp., p. 241; Pub. L. 109-177, 120 Stat. 192.

Subpart G—Penalties

§ 537.701 [Amended]

2. Amend § 537.701 in paragraph (a)(1) by removing “$11,000” and adding in its place “$50,000”, and in paragraph (a)(2) by removing “10 years” and adding in its place “twenty years”.

PART 538—SUDANESE SANCTIONS REGULATIONS

1. The authority citation for part 538 is revised to read as follows:

Authority: 3 U.S.C. 301; 31 U.S.C. 321(b); 18 U.S.C. 2339B, 2332d; 50 U.S.C. 1601-1651, 1701-1706; Pub. L. 106-387, 114 Stat. 1549; E.O. 13067, 62 FR 59989; 3 CFR, 1997 Comp., p. 230; Pub. L. 109-177, 120 Stat. 192.

Subpart G—Penalties

§ 538.701 [Amended]

2. Amend § 538.701 in paragraph (a)(1) by removing “$11,000” and adding in its place “$50,000”, and in paragraph (a)(2) by removing “10 years” and adding in its place “twenty years”.

PART 539—WEAPONS OF MASS DESTRUCTION TRADE CONTROL REGULATIONS

1. The authority citation for part 539 is revised to read as follows:

Authority: 3 U.S.C. 301; 22 U.S.C. 2751-2799aa-2; 31 U.S.C. 321(b); 50 U.S.C. 1601-1651, 1701-1706; E.O. 12938, 59 FR 59099; 3 CFR, 1994 Comp., p. 950; E.O. 13094, 63 FR 40803; 3 CFR, 1998 Comp., p. 200; Pub. L. 109-177, 120 Stat. 192.

Subpart G—Penalties

§ 539.701 [Amended]

2. Amend § 539.701 in paragraph (a)(1) by removing “$11,000” and adding in its place “$50,000”, and in paragraph (a)(2) by removing “10 years” and adding in its place “twenty years”.

PART 540—HIGHLY ENRICHED URANIUM (HEU) AGREEMENT ASSETS CONTROL REGULATIONS

1. The authority citation for part 540 is revised to read as follows:

Authority: 3 U.S.C. 301; 31 U.S.C. 321(b); 50 U.S.C. 1601-1651, 1701-1706; Pub. L. 101-410, 104 Stat. 890 (28 U.S.C. 2461 note); E.O. 13159, 65 FR 39279; 3 CFR Comp., p. 277; Pub. L. 109-177, 120 Stat. 192.

Subpart G—Penalties

§ 540.701 [Amended]

2. Amend § 540.701 in paragraph (a)(1) by removing “$11,000” and adding in its place “$50,000”, and in paragraph (a)(2) by removing “10 years” and adding in its place “twenty years”.

PART 541—ZIMBABWE SANCTIONS REGULATIONS

1. The authority citation for part 541 is revised to read as follows:

Authority: 3 U.S.C. 301; 31 U.S.C. 321(b); 50 U.S.C. 1601-1651, 1701-1706; E.O. 13288, 68 FR 11457; 3 CFR, 2003 Comp., p. 186; Pub. L. 109-177, 120 Stat. 192.

Subpart G—Penalties

§ 541.701 [Amended]

2. Amend § 541.701 in paragraph (a)(1) by removing “$11,000” and adding in its place “$50,000”, and in paragraph (a)(2) by removing “10 years” and adding in its place “twenty years”.

PART 542—SYRIAN SANCTIONS REGULATIONS

1. The authority citation for part 542 is revised to read as follows:

Authority: 3 U.S.C. 301; 31 U.S.C. 321(b); 50 U.S.C. 1601-1651, 1701-1706; E.O. 13338, 69 FR 26751, May 13, 2004; Pub. L. 109-177, 120 Stat. 192.

Subpart G—Penalties

§ 542.701 [Amended]

2. Amend § 542.701 in paragraph (a)(1) by removing “$11,000” and adding in its place “$50,000”, and in paragraph (a)(2) by removing “10 years” and adding in its place “twenty years”.

PART 560—IRANIAN TRANSACTIONS REGULATIONS

1. The authority citation for part 560 is revised to read as follows:

Authority: 3 U.S.C. 301; 18 U.S.C. 2339B, 2332d; 22 U.S.C. 2349aa-9; 31 U.S.C. 321(b); 50 U.S.C. 1601-1651, 1701-1706; Pub. L. 101-410, 104 Stat. 890 (28 U.S.C. 2461 note); Pub. L. 106-387, 114 Stat. 1549; E.O. 12613, 52 FR 41940; 3 CFR, 1987 Comp., p. 256; E.O. 12957, 60 FR 14615; 3 CFR, 1995 Comp., p. 332; E.O. 12959, 60 FR 24757, 3 CRF, 1995 Comp., p. 356; E.O. 13059, 62 FR 44531; 3 CFR, 1997 Comp., p. 217; Pub. L. 109-177, 120 Stat. 192.

Subpart G—Penalties

§ 560.701 [Amended]

2. Amend § 560.701 in paragraph (a)(1) by removing “$11,000” and adding in its place “$50,000”, and in paragraph (a)(2) by removing “ten years” and adding in its place “twenty years”.

PART 588—WESTERN BALKANS STABILIZATION REGULATIONS

1. The authority citation for part 588 is revised to read as follows:

Authority: 3 U.S.C. 301; 31 U.S.C. 321(b); 50 U.S.C. 1601-1651, 1701-1706; E.O. 13219, 66 FR 34777; 3 CFR, 2002 Comp., p. 778; E.O. 13304, 68 FR 32315, May 29, 2003; Pub. L. 109-177, 120 Stat. 192.

Subpart G—Penalties

§ 588.701 [Amended]

2. Amend § 588.701 in paragraph (a)(1) by removing “$11,000” and adding in its place “$50,000”, and in paragraph (a)(2) by removing “10 years” and adding in its place “twenty years”.

PART 594—GLOBAL TERRORISM SANCTIONS REGULATIONS

1. The authority citation for part 594 is revised to read as follows:

Authority: 3 U.S.C. 301; 22 U.S.C. 287c; 31 U.S.C. 321(b); 50 U.S.C. 1601-1651, 1701-1706; Pub. L. 101-410, 104 Stat. 890 (28 U.S.C. 2461 note); E.O. 13224, 66 FR 49079, September 25, 2001; E.O. 13268, 67 FR 44751, July 3, 2002; 3 CFR, 2002 Comp., p. 240; E.O. 13284, 64 FR 4075, January 28, 2003; Pub. L. 109-177, 120 Stat. 192.

Subpart G—Penalties

§ 594.701 [Amended]

2. Amend § 594.701 in paragraph (a)(1) by removing “$11,000” and adding in its place “$50,000”, and in paragraph (a)(2) by removing “10 years” and adding in its place “twenty years”.

PART 595—TERRORISM SANCTIONS REGULATIONS

1. The authority citation for part 595 is revised to read as follows:

Authority: 3 U.S.C. 301; 31 U.S.C. 321(b); 50 U.S.C. 1601-1651, 1701-1706; Pub. L. 101-410, 104 Stat. 890 (28 U.S.C. 2461 note); E.O. 12947, 60 FR 5079; 3 CFR, 1995 Comp., p. 319; Pub. L. 109-177, 120 Stat. 192.

Subpart G—Penalties

§ 595.701 [Amended]

2. Amend § 595.701 in paragraph (a)(1) by removing “$11,000” and adding in its place “$50,000”, and in paragraph (a)(2) by removing “ten years” and adding in its place “twenty years”.

Dated: April 20, 2006.
Barbara C. Hammerle,
Acting Director, Office of Foreign Assets Control.

[FR Doc. 06-4705 Filed 5-19-06; 8:45 am]

BILLING CODE 4811-37-P